DEPARTMENT OF ENERGY

Southwestern Power Administration

Notice of Floodplain/Wetland Involvement for the OG&E Clarksville to Little Spadra Transmission Line Project

AGENCY: Southwestern Power Administration, DOE.

ACTION: Notice of Floodplain/Wetland Involvement.

SUMMARY: Southwestern Power Administration (Southwestern), a power marketing agency of the U.S. Department of Energy (DOE), is the lead federal agency for a proposal to connect the Oklahoma Gas and Electric (OG&E) Little Spadra Substation, northeast of Clarksville, Arkansas in Johnson County to Southwestern's system at the Clarksville Substation on the west side of Clarksville, Arkansas. The proposal includes the construction of 5.2 miles of 161 kilovolt (kV) electric transmission line (single pole or H-frame structures). Some of the proposed construction activity will likely occur within a 100-year floodplain.

In accordance with the DOE's Floodplain/Wetland Review Requirements, Southwestern will prepare a floodplain/wetland impact assessment. The proposed action will be performed in a manner so as to avoid or minimize potential harm to or within any affected floodplain/wetland.

DATES: Comments on the proposed floodplain/wetland action are due to the address below no later than March 21, 2002.

ADDRESSES: Comments should be addressed to Ms. Darlene Low, Environmental, Safety, Health and Aviation Program Manager, Southwestern Power Administration, One West Third Street, Tulsa, OK, 74103-3519, fax (918) 595-6656, email Low@swpa.gov.

FOR FURTHER INFORMATION CONTACT: Mr. Robert Orr, Environmental Specialist, RMC-Consultants, Inc., 2858 S. Golden, Springfield, MO, 65808, phone (417) 891-2668, email orr@swpa.gov.

SUPPLEMENTARY INFORMATION: The proposed project will involve construction activities within floodplain and wetland areas. Southwestern Power Administration or their representative will be performing the construction. Some construction activities would take place during the winter months when the ground is frozen to facilitate access in extremely wet areas. The floodplain/wetland assessment will examine the proposed construction activities. The transmission line will extend from the Clarksville Substation to OG&E's Little Spadra Substation in Johnson County, Arkansas. The proposed transmission line routing would cross four streams.

These streams include Little Spadra Creek (perennial), Little Willett Branch (intermittent), unnamed tributary of Little Willett Branch, and an unnamed tributary of Little Spadra Creek. Maps and further information are available from the Southwestern contacts identified above.

Dated: February 26, 2002.
Michael A. Deihl,
Administrator.

[FR Doc. 02-5306 Filed 3-5-02; 8:45 am]

BILLING CODE 6450-01-P